DEPARTMENT OF DEFENSE

Department of the Air Force

Request for Public Review and Comment of Changes to the Space Segment/User Segment Interface Control Document (ICD) for the L2 Civil Signal (L2C)

AGENCY: Department of the Air Force, DoD.

ACTION: Notice.

SUMMARY: This notice informs the public that the Global Positioning System (GPS) Joint Program Office (JPO) proposes to revise ICD-GPS-200, NAVSTAR GPS Space Segment/Navigation User Interface, to include the description of the proposed L2C signal, to be transmitted at the L2 frequency (1227.6 MHz). These proposed changes are described in draft Preliminary Proposed Interface Revision Notice (PPIRN), PPIRN-200C-007. The draft PPIRN can be reviewed at the following web site: http://gps.losangeles.af.mil. Select the “GPS Library” tab, then select the “GPS Public” tab, and then select the “Public Documents” selection. Hyperlinks are provided to “DRAFT-PPIRN-200C-007 (PDF)” and to review instructions. Reviewers should save the PPIRN to a local memory location prior to opening and performing the review. All comments and their resolutions will be posted to the web site.

ADDRESSES: Submit comments to SMC/CZER, 2420 Vela Way, Suite 1467, El Segundo, CA 90245-5469, ATTN: 1st Lt Reginald C. Victoria. A comment matrix is provided for your convenience at the web site and is the preferred method of comment submittal. Comments may be submitted to the following Internet address: cmdm@losangeles.af.mil. Comments may also be sent by fax to (310) 363-6387.

DATES: The suspense date for comment submittal is July 17, 2001.

FOR FURTHER INFORMATION CONTACT: Capt Eric Y. Moore, Configuration Management Processes Coordinator, (310) 363-5117, or 1st Lt Reginald C. Victoria, ICD-GPS-200C Point of Contact, (310) 363-6329, GPS JPO System Engineering Division, address above.

SUPPLEMENTARY INFORMATION: The civilian and military communities use the Global Positioning System, which employs a constellation of 24 satellites to provide continuously transmitted signals to enable appropriately configured GPS user equipment to produce accurate position, navigation and time information.

Janet A. Long,
Air Force Federal Register Liaison Officer.

[FR Doc. 01-15943 Filed 6-25-01; 8:45 am]

BILLING CODE 5001-05-P